DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Union Pacific Railroad Company

[Waiver Petition Docket Number FRA-2007-28049]

The Union Pacific Railroad Company (UP) seeks a waiver of compliance with the Locomotive Safety Standards of 49 CFR 229.123, which requires each lead locomotive to be equipped with an end plate, pilot plate, or snow plow that extends across both rails at a maximum clearance of 6 inches. UP requests the waiver for four locomotive hump sets utilized in hump yard service in Houston, Texas. UP also requests that they be able to use these locomotives for transfer movements between Settagast Yard and Englewood Yard, a distance of less than 1 mile, at a speed not to exceed 10 mph. The railroad indicates that due to the height of the retarders, it is not uncommon for locomotive pilots to strike the retarders. If the waiver is granted, UP would increase the height of the pilot plates on locomotives assigned to hump yard service in Houston to eight and three-fourths inches. With the exception of transfer movements between Settagast and Englewood yards, the locomotives would be restricted to trailing position outside the hump yard and when moving over the railroad for service or reassignment.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (FRA-2007-28049) and must be submitted to the Docket Clerk, DOT Docket Management Facility, Room PL-401 (Plaza Level), 400 7th Street SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on May 7, 2007.
Grady C. Cothen, Jr.,
Deputy Associate Administrator for Safety Standards and Program Development.

[FR Doc. E7-9169 Filed 5-11-07; 8:45 am]

BILLING CODE 4910-06-P